DEPARTMENT OF THE TREASURY

United States Mint

New Information Collection Request for a New OMB Control Number: Comment Request for Quantitative Public Opinion Research for Circulating Coins—Surveys and Focus Group Interviews

AGENCY: United States Mint, Treasury.

ACTION: Notice and request for comments.

SUMMARY: Pursuant to the Coin Modernization, Oversight, and Continuity Act of 2010 (Pub. L. 111- 302), the United States Mint invites the general public and other Federal agencies to take this opportunity to comment on its intention to use opinion surveys and focus group interviews to solicit the public's views on the nation's circulating coins. The intent is to survey the general public on topics including, but not limited to, the following: The one-cent coin (penny), characteristics of potential alternative metals for use in coin production, and consumer behavior with the use of coins. This request for comment is required by the Paperwork Reduction Act of 1995, Public Law 104-13 (44 U. S. C. 3506 (c)(2)(A)).

DATES: Written comments should be received on or before May 19, 2014 to be assured of consideration.

ADDRESSES: Direct all written comments to Yvonne Pollard; Compliance Branch; United States Mint; 801 9th Street, NW., 6th Floor; Washington, DC 20220; (202) 354-6784 (this is not a toll-free number); YPollard@usmint.treas.gov.

FOR FURTHER INFORMATION CONTACT: Requests for additional information or copies of the information collection package should be directed to the Office of Coin Studies; United States Mint; 801 9th Street NW., 6th Floor; Washington, DC 20220; (202) 354-6600 (this is not a toll-free number); OfficeofCoinStudies@usmint.treas.gov.

SUPPLEMENTARY INFORMATION:

Title: United States Mint Quantitative Public Opinion Research for Circulating Coins—Surveys and Focus Group Interviews

OMB Number: 1525-NEW

Abstract: Under the Coin Modernization, Oversight, and Continuity Act of 2010, in conducting research and development on circulating coins, the proposed public opinion surveys and focus group interviews will allow the United States Mint to understand the public perception of potential changes to the characteristics of circulating coins due to alternative metal compositions and understand consumer behavior and their actions regarding the use of coins, especially the penny.

Current Actions: The United States Mint will conduct surveys and focus groups interviews to solicit public opinion for the penny, alternative metals use in coin production, and consumer behavior with the use of coins.

Type of Review: New information collection request for new OMB control number.

Affected Public: General public.

Estimated Number of Respondents: The estimated number of annual respondents is 3000.

Estimated Total Annual Burden Hours: The estimated number of annual burden hours is 750.

Requests for Comments: Comments submitted in response to this notice will be summarized and/or included in the request for Office of Management and Budget (OMB) approval. All comments will become a matter of public record. Comments are invited on: (a) Whether the collection of information is necessary for the proper performance of the functions of the agency, including whether the information shall have practical utility, (b) the accuracy of the agency's estimate of the burden of the collection of information, (c) ways to enhance the quality, utility, and clarity of the information to be collected, (d) ways to minimize the burden of the collection of information on respondents, including through the use of automated collection techniques or other forms of information technology, and (e) estimates of capital or start-up costs and costs of operation, maintenance, and purchase of services to provide information.

Dated: March 12, 2014.
Richard A. Peterson,
Deputy Director, United States Mint.

[FR Doc. 2014-05980 Filed 3-17-14; 8:45 am]

BILLING CODE 4810-37-P